GENERAL SERVICES ADMINISTRATION

[Notice—FTR-2012-01; Docket number 2012-0004; Sequence 1]

Office of Asset and Transportation Management; Privately Owned Vehicle Mileage Reimbursement Rates

AGENCY: Office of Governmentwide Policy (OGP), General Services Administration (GSA).

ACTION: Notice of FTR Bulletin 12-02, Calendar Year (CY) 2012 Privately Owned Vehicle Mileage Reimbursement Rates.

SUMMARY: The General Services Administration's (GSA) annual privately owned vehicle (POV) mileage reimbursement rate review has resulted in no rate changes when employees use their privately owned automobile (POA), their POA when Government owned automobiles (GOA) are authorized, their privately owned airplane, and/or their privately owned motorcycle for official purposes. FTR Bulletin 12-02 indicates that there will be no POV rate changes beginning on January 1, 2012. This notice announcing FTR Bulletin 12-02 is the only notification of this decision.

FTR Bulletin 12-02 and all other FTR Bulletins are posted at www.gsa.gov/ftrbulletins. Any further bulletins posted due to adjustments will be announced in the Federal Register. The POV Mileage Reimbursement Rate Web site is www.gsa.gov/mileage.

DATES: This notice is effective on January 17, 2012 and applies to travel performed on or after January 1, 2012, through December 31, 2012, unless changed by a subsequent bulletin.

FOR FURTHER INFORMATION CONTACT: For clarification of content, please contact Mr. Cy Greenidge, Office of Governmentwide Policy, Office of Asset and Transportation Management, at (202) 219-2349, or by email at travelpolicy@gsa.gov. Please cite Notice of FTR Bulletin 12-02.

SUPPLEMENTARY INFORMATION:

Change in Standard Procedure

GSA's annual privately owned vehicle (POV) mileage reimbursement rate review has resulted in no rate changes when employees use their privately owned automobile (POA), their POA when Government owned automobiles (GOA) are authorized, their privately owned airplane, and/or their privately owned motorcycle for official purposes. Historically, GSA has determined these rates by reviewing the annual standard automobile study conducted by the Internal Revenue Service, as well as conducting independent automobile, motorcycle, and aircraft studies, and/or by applying consumer price index data. GSA will continue to monitor these costs on a monthly basis and will adjust the rate if warranted. Any adjustments will be posted in the Federal Register and posted as a bulletin on GSA's Web site (www.gsa.gov/ftrbulletins) and on our POV Mileage Reimbursement Rate Web site (www.gsa.gov/mileage).

GSA posts the POV mileage reimbursement rates, formerly published in 41 CFR Chapter 301, solely on the Internet at www.gsa.gov/ftr. This process, implemented in FTR Amendment 2010-07 (75 FR 72965, Nov. 29, 2010), ensures more timely updates in mileage reimbursement rates by GSA for Federal employees on official travel.

Notices published periodically in the Federal Register, such as this one, and the changes posted on the GSA Web site, now constitute the only notification of revisions to privately owned vehicle reimbursement rates for Federal agencies.

Dated: January 6, 2012.
Janet Dobbs,
Deputy Associate Administrator.

[FR Doc. 2012-623 Filed 1-13-12; 8:45 am]

BILLING CODE 6820-14-P